DEPARTMENT OF TRANSPORTATION

Federal Aviation Administration

Notice of Public Hearing and Availability of a Draft Environmental Assessment (EA) for Installation of Category II/III Approaches at O'Hare International Airport at Chicago, IL

AGENCY: Federal Aviation Administration (FAA), DOT.

ACTION: Notice to hold a public hearing and of availability of a draft Environmental Assessment for Installation of Category II/III approaches at Chicago O'Hare International Airport.

SUMMARY: The Federal Aviation Administration (FAA) has prepared and is making available the Draft Environmental Assessment (DEA) for the following proposed action at O'Hare International Airport: the upgrade of Runways 27LK and 27R from a category I approach to a Category II/III approach, the installation of an Approach Lighting System with Sequenced Flashing Lights (ALSF-2) system to Runways 27L and 27R, the construction of localizer buildings and associated equipment including removal of the existing buildings, installation of 1,000-gallon underground storage tanks at the localizer buildings, the replacement or potential relocation of the localizer antennae on Runway 27R, the installation of an Inner Marker and Far Field Monitor on Runways 27L and 27R, the removal of existing Medium Intensity Approach Lighting System with Runway Alignment Indicator Lights (MALSR) systems from Runway 27L and 27R, the removal of the Runways 27L and 27R Middle Marker, shelter, and antenna, the replacement of the glide slope antenna and equipment for Runway 27R, the installation of taxiway centerline lights in the apron north of Gates B-17 through B-22, the installation of Runway Guard Lights (RGLs) at connecting taxiways to Runways 27L and 27R, the expansion of lease areas, by the FAA, from the City8 of Chicago on airport property, the development of Category II/III instrument approach procedures for Runways 27L and27R, and the issuance of National Airspace System (NAS) Change Proposal (NCP) waivers associated with design and installation of the preceding.

The Draft EA is being prepared in accordance with the National Environmental Policy Act (NEPA) of 1969, as amended, FAA Order 1050.1D, “Policies and Procedures for Considering Environmental Impacts,” and FAA Order 5050.4A, “Airport Environmental Handbook.” The proposed development action is consistent with the National Airspace System Plan prepared by the U.S. Department of Transportation, Federal Aviation Administration (FAA).

A Draft Environmental Assessment will be available for public review 30 days prior to the Public Hearing during normal business hours at the following locations:

Arlington Heights Memorial Library, 500 N. Dunton Ave., Arlington Heights, IL 60004

Bensenville Public Library, 200 S. Church Rd., Bensenville, IL 60106

Chicago Department of Aviation Office, Terminal 2 E/F Concourse, Mezzanine Level Chicago O'Hare International Airport 60016

Des Plaines Public Library, 1501 Ellinwood St., Dews Plaines, IL 60016

Eisenhower Public Library, 4652 N. Olcott Ave., Harwood Heights, IL 60706

Elk Grove Village Public Library, 1001 Wellington Ave., Elk Grove Village, IL 60007

Elmhurst Public Library, 211 Prospect Ave., Elmhurst, IL 60126

Franklin Park Public Library, 10311 Grand Ave., Franklin Park, IL 60131

Harold Washington Library, 400 South State St., 5th Floor, Chicago, IL 60605

Norridge Village Hall, Office of the Village Clerk, 4000 N. Olcott Ave., Norridge, IL 60706

Northlake Public Library, 231 N. Wolf Rd., Northlake, IL 60164

Oakton Community College Library, Des Plaines, IL 60016

Park Ridge Public Library, 20 S. Prospect Ave., Park Ridge, IL 60068

Rosemont village Hall, Office of the Village Clerk, 9501 Devon Avenue, Rosemont, IL 60018

Schiller Park Public Library, 4200 Old River Rd., Schiller Park, IL 60176

Wood Dale Public Library, 520 N. Wood Dale Rd., Wood Dale, IL 60191

Northeast Illinois Planning Commission (NIPC), 222 South Riverside Plaza, Suite 1800, Chicago, Illinois 60606

Dates, Times and Place: Oral or written comments may also be given at a Public Hearing that will be held on Tuesday, May 18, 2004, 2 p.m. to 7 p.m. at the Fountain Blue Banquets and Conference Center, 2300 Mannheim Road, Des Plaines, IL 60018.

ADDRESSES: Written comments are encouraged from persons or interested parties unable to attend the public hearing or who do not wish to make public statements. Written comments concerning the Draft EA will be accepted until 5 p.m. CST, Tuesdy, June 1, 2004. Written comments may be sent to: Ms. Virginia Marcks, ANI-430, Federal Aviation Administration, 2300 East Devon Avenue, Des Plaines, IL 60018.

FOR FURTHER INFORMATION CONTACT: Ms. Virginia Marcks, Environmental Engineer, ANI-430, Federal Aviation Administration, 2300 East Devon Avenue, Des Plaines, Illinois 60018. Telephone number: 847-294-7494.

SUPPLEMENTARY INFORMATION:

Background

O'Hare, the world's busiest airport in terms of aircraft operations in 2003, functions as both a gateway for international passengers and as a key component in the domestic network of the national air transportation system. In its domestic role, O'Hare is unique in that it serves as the nation's only dual major airline hub (for both United and American Airlines) and, due to its geographic location, serves as a logical connecting point for significant passenger flows across the United States. However, increasing traffic has resulted in record level delays at O'Hare, particularly during IFR or inclement weather conditions, placing O'Hare last in on-time performance among the 31 busiest U.S. airports. Since the mid-70's, the installation of Category II/III capability has been examined for the potential to benefit arrival and departure capabilities during poor weather conditions. The FAA's Proposed Action will allow existing scheduled operations to occur during IFR weather conditions, thereby reducing cancellations and delays benefiting the entire National Airspace System.

Meeting Procedures

(a) Persons wishing to speak at the meeting are asked to limit their comments to five minutes. This could be extended depending on the number of person wishing to speak.

(b) Persons wishing to make oral presentations will be required to identify themselves for the record.

(c) Proceedings of the meeting will be documented and recorded.

(d) Any person who wishes to submit a position paper or other written comments for the record may do so.

(e) The sessions may be adjourned at any time if persons present have had an opportunity to speak.

(f) This meeting is designed for listening carefully to public statements. As such, there will be no rebuttal from persons facilitating the meeting.

Issued in Des Plaines, Illinois April 7, 2004.
Vincent Bridgeworth,
Manager, Chicago NAS Implementation Center, ANI-400, Great Lakes Region.

[FR Doc. 04-8372 Filed 4-12-04; 8:45 am]

BILLING CODE 4910-13-M